Order of December 29, 2009

Original Classification Authority

Pursuant to the provisions of section 1.3 of the Executive Order issued today, entitled “Classified National Security Information” (Executive Order), I hereby designate the following officials to classify information originally as “Top Secret” or “Secret”:

TOP SECRET

Executive Office of the President:

The Assistant to the President and Chief of Staff

The Assistant to the President for National Security Affairs (National Security Advisor)

The Assistant to the President for Homeland Security and Counterterrorism

The Director of National Drug Control Policy

The Director, Office of Science and Technology Policy

The Chair or Co-Chairs, President's Intelligence Advisory Board

Departments and Agencies:

The Secretary of State

The Secretary of the Treasury

The Secretary of Defense

The Attorney General

The Secretary of Energy

The Secretary of Homeland Security

The Director of National Intelligence

The Secretary of the Army

The Secretary of the Navy

The Secretary of the Air Force

The Chairman, Nuclear Regulatory Commission

The Director of the Central Intelligence Agency

The Administrator of the National Aeronautics and Space Administration

The Director, Information Security Oversight Office

SECRET

Executive Office of the President:

The United States Trade Representative

Departments and Agencies:

The Secretary of Agriculture

The Secretary of Commerce

The Secretary of Health and Human Services

The Secretary of Transportation

The Administrator of the United States Agency for International Development

The Administrator of the Environmental Protection Agency

Any delegation of this authority shall be in accordance with section 1.3(c) of the Executive Order, except that the Director of the Information Security Oversight Office, the Secretary of Agriculture, and the Administrator of the Environmental Protection Agency may not delegate the authority granted in this order. If an agency head without original classification authority under this order, or otherwise delegated in accordance with section 1.3(c) of the Executive Order, has an exceptional need to classify information originated by their agency, the matter shall be referred to the agency head with appropriate subject matter interest and classification authority in accordance with section 1.3(e) of the Executive Order. If the agency with appropriate subject matter interest and classification authority cannot readily be determined, the matter shall be referred to the Director of the Information Security Oversight Office.

Presidential designations ordered prior to the issuance of the Executive Order are revoked as of the date of this order. However, delegations of authority to classify information originally that were made in accordance with the provisions of section 1.4 of Executive Order 12958 of April 17, 1995, as amended, by officials designated under this order shall continue in effect, provided that the authority of such officials is delegable under this order.

This order shall be published in the Federal Register.

THE WHITE HOUSE,

December 29, 2009.

[FR Doc. E9-31425

Filed 1-4-10; 11:15 am]

Billing code 3195-W0-P